ENVIRONMENTAL PROTECTION AGENCY

40 CFR Part 300

[FRL-6877-9]

National Oil and Hazardous Substances Pollution Contingency Plan National Priorities List

AGENCY: Environmental Protection Agency (EPA).

ACTION: Notice of deletion of Newsom Brothers Superfund Site from the National Priorities List (NPL).

SUMMARY: EPA Region 4 (EPA) announces the deletion of the Newsom Brothers Superfund Site from the NPL. The NPL constitutes appendix B of 40 CFR part 300 which is the National Oil and Hazardous Substances Pollution Contingency Plan (NCP), which EPA promulgated pursuant to section 105 of the Comprehensive Environmental Response, Compensation, and Liability Act of 1980 (CERCLA). EPA and the State of Mississippi (State) have determined that all appropriate CERCLA actions have been implemented and that no further cleanup by responsible parties is appropriate under CERCLA. Moreover, EPA and the State have determined that remedial activities conducted at the site to date have been protective of public health, welfare, and the environment.

EFFECTIVE DATE: September 27, 2000.

ADDRESSES: Comprehensive information on this Site is available through the EPA Region 4 public docket, which is located at the Region 4 office and is available for viewing by appointment only from 9 a.m. to 4 p.m., Monday through Friday, excluding holidays. Requests for appointments or copies of the background information from the regional public docket should be directed to the EPA Region 4 Docket Office.

The address for the Regional Docket Office is: Ms. Debbie Jourdan, U.S. Environmental Protection Agency, Region 4, 61 Forsyth Street, SW., Atlanta, Georgia 30303. Telephone No.: (404) 562-8862.

Background information from the regional public docket is also available for viewing at the Site information repository located at the following address: South Mississippi Regional Library, 900 Broad Street, Columbia, Mississippi 39429.

FOR FURTHER INFORMATION CONTACT: Carolyn B. Thompson, Remedial Project Manager, U.S. Environmental Protection Agency, Region 4, 61 Forsyth Street, SW., Atlanta, Georgia 30303, (404) 562-8913; Michael T. Slack, P.E., CERCLA Division, Mississippi Department of Environmental Quality, Office of Pollution Control, 101 West Capitol Street, Jackson, MS 39201, (601) 961-5217.

SUPPLEMENTARY INFORMATION: EPA announces the deletion of the Newsom Brothers Superfund Site, Columbia, Mississippi, from the National Priorities List (NPL), which is appendix B of the National Oil and Hazardous Substances Pollution Contingency Plan (NCP). EPA identifies sites that appear to present a significant risk to public health, welfare, or the environment and it maintains the NPL as the list of those sites. Sites on the NPL may be the subject of remedial actions financed by the Hazardous Substances Superfund Response Trust Fund (Fund). Pursuant to 42 U.S.C. 9605 (40 CFR 300.425(e)(3) of the NCP), any site deleted from the NPL remains eligible for Fund-financed remedial actions in the unlikely event that conditions at the site warrant such action in the future.

EPA published a Notice of Intent to Delete the Newsom Brothers Site from the NPL on August 2, 2000 in the Federal Register (65 FR 47364-47366). The closing date for comments on the Notice of Intent to Delete was September 1, 2000. EPA received one comment and the responsiveness summary is attached to this Notice of Deletion. Deletion of a site from the NPL does not affect responsible party liability or impede agency efforts to recover costs associated with response efforts.

The Congressional Review Act, 5 U.S.C. 801 et seq., as added by the Small Business Regulatory Enforcement Fairness Act of 1996, does not apply because this action is not a rule, as that term is defined in 5 U.S.C. 804(3).

List of Subjects in 40 CFR Part 300

Environmental protection, Air pollution control, Chemicals, Hazardous substances, Hazardous waste, Intergovernmental relations, Penalties, Reporting and recordkeeping requirements, Superfund, Water pollution control, Water supply.

Dated: September 20, 2000.
A. Stanley Meiburg,
Acting Regional Administrator, Region 4.

40 CFR part 300 is amended as follows:

PART 300—[AMENDED]

1. The authority citation for part 300 continues to read as follows:

Authority: 33 U.S.C. 9601-9657; 42 U.S.C. 1321(c)(2); E.O. 12777, 56 FR 54757, 3 CFR 191 Comp., p. 351; E.O. 12580, 52 FR 2923, 3 CFR, 1987 Comp., p. 193.

Appendix B—[Amended]

2. Table 1 of appendix B to part 300 is amended by removing the site “Newsom Brothers/Old Reichhold Chemicals,” Columbia, Mississippi.

[FR Doc. 00-24787 Filed 9-26-00; 8:45 am]

BILLING CODE 6560-50-P